EXPORT-IMPORT BANK OF THE UNITED STATES

Sunshine Act Meeting

ACTION: Notice of a Partially Open Meeting of the Board of Directors of the Export-Import Bank of the United States.

TIME AND PLACE: Tuesday, April 27, 2004 at 2 p.m. The meeting will be held at Ex-Im Bank in Room 1143, 811 Vermont Avenue, NW., Washington, DC 20571.

OPEN AGENDA ITEMS: (1) Medical Equipment Initiative; (2) Co-Guarantee Pilot Program with the Small Business Administration.

PUBLIC PARTICIPATION: The meeting will be open to public participation for Items No. 1-3 only.

FOR FURTHER INFORMATION CONTACT: Office of the Secretary, 811 Vermont Avenue, NW., Washington, DC 20571 (Tele. No. 202-565-3957).

Peter B. Saba,
General Counsel.

[FR Doc. 04-9758 Filed 4-26-04; 2:17 pm]

BILLING CODE 6690-01-M